POSTAL REGULATORY COMMISSION

[Docket No. CP2012-32; Order No. 1367]

Postal Rate Changes

AGENCY: Postal Regulatory Commission.

ACTION: Notice.

SUMMARY: The Commission is noticing a recently-filed Postal Service notice of rate and changes affecting Inbound Air Parcel Post at Universal Postal Union (UPU) rates. This notice informs the public of the filing, addresses preliminary procedural matters, and invites public comment.

DATES: Comments are due: June 21, 2012.

ADDRESSES: Submit comments electronically via the Commission's Filing Online system at http://www.prc.gov. Commenters who cannot submit their views electronically should contact the person identified in FOR FURTHER INFORMATION CONTACT by telephone for advice on alternatives to electronic filing.

FOR FURTHER INFORMATION CONTACT: Stephen L. Sharfman, General Counsel at 202-789-6820.

SUPPLEMENTARY INFORMATION: Notice of filing. On June 11, 2012, the Postal Service filed a notice, in accordance with 39 CFR 3015.5, announcing changes in rates not of general applicability for Inbound Air Parcel Post at Universal Postal Union (UPU) rates.¹ The intended effective date is July 1, 2012. Id. at 1. The timing of the filing comports with the requirement, in rule 3015.5, that notice of this type of rate change be submitted at least 15 days before the effective date.

¹ Notice of the United States Postal Service of Filing Changes in Rates Not of General Applicability and Application for Non-Public Treatment of Materials Filed Under Seal, June 11, 2012 (Notice). No classification changes are involved. Notice at 2.

Description of product and approach to rates. Air parcels are inbound parcels eligible to receive transportation by air, as opposed to surface. Id., Attachment 1 at 1. The rates apply when there is no contractual relationship with the tendering postal operator. The Postal Service asserts that the rates presented here comport with the controlling Governors' Decision No. 09-15 because they are the highest possible inward land rates for which the United States is eligible based on inflation increases and other factors. Id. at 1-2.

Contents of Notice. The Notice incorporates by reference the Postal Service's explanation of Inbound Air Parcel Post (at UPU Rates) provided in the initial dockets established for consideration of (i) the addition of this product to the competitive product list and (ii) the appropriate ratesetting mechanism.² Notice at 2. It includes the following attachments:

² See id., Attachment 2; Docket Nos. MC2010-11 and CP2010-11, Order No. 362, Order Adding Inbound Air Parcel Post at UPU Rates to Competitive Product List, December 15, 2009, at 8-9.

• Attachment 1—an application for non-public treatment of certain data and Information, including notice of an alternative approach to identifying third parties with a known proprietary interest in the materials;

• Attachment 2—a redacted copy of Governors' Decision No. 09-15 (issued November 16, 2009) indicating three attachments relevant to it;

• Attachment 3—a redacted version of the new rates; and

• Attachment 4—a certification concerning certain cost and pricing matters, including representations regarding anticipated positive cost coverage for the individual product and the absence of cross-subsidy.

The Notice also includes the Postal Service's assertion that it has established that the new rates for Inbound Air Parcel Post (at UPU Rates) are in compliance with the requirements of 39 U.S.C. 3633(a)(2) and therefore has met its burden of providing notice to the Commission of changes in rates within the scope of Governors' Decision No. 09-15. Id. at 3.

Related administrative matters. The Commission establishes Docket No. CP2012-32 for consideration of matters raised in the Notice. It has posted the public portions of the instant filing at http://www.prc.gov. Interested persons are encouraged to review the Notice, Attachments, and predecessor dockets (which are also available for review at the referenced Web site).

The Commission designates James F. Callow as the Public Representative to represent the interests of the general public in this proceeding. Interested persons may submit comments on whether the Postal Service's filings in this case are consistent with 39 U.S.C. 3632, 3633, and 39 CFR part 3015. Comments are due June 21, 2012.

It is ordered:

1. The Commission establishes Docket No. CP2012-32 for consideration of the matters raised in the Postal Service's June 11, 2012 Notice.

2. Comments by interested persons are due no later than June 21, 2012.

3. Pursuant to 39 U.S.C. 505, James F. Callow is appointed to serve as an officer of the Commission (Public Representative) to represent the interest of the general public in this proceeding.

4. The Secretary shall arrange for publication of this order in the Federal Register.

By the Commission.
Shoshana M. Grove,
Secretary.

[FR Doc. 2012-14890 Filed 6-18-12; 8:45 am]

BILLING CODE 7710-FW-P